DEPARTMENT OF COMMERCE

International Trade Administration

[A-533-824]

Polyethylene Terephthalate Film, Sheet, and Strip From India: Final Results of Antidumping Duty Administrative Review; 2015-2016

AGENCY: Enforcement and Compliance, International Trade Administration, Department of Commerce.

SUMMARY: The Department of Commerce (Commerce) determines that Jindal Poly Films Limited made sales of subject merchandise at less than normal value, but that SRF Limited did not. The period of review (POR) is July 1, 2015, through June 30, 2016.

Applicable Date: February 13, 2018.

FOR FURTHER INFORMATION CONTACT: Jacqueline Arrowsmith, AD/CVD Operations, Office VII, Enforcement and Compliance, International Trade Administration, U.S. Department of Commerce, 14th Street and Constitution Avenue NW, Washington, DC 20230; telephone: (202) 482-5255.

SUPPLEMENTARY INFORMATION:

Background

On August 7, 2017, the Department of Commerce (Commerce) published the Preliminary Results.¹ For a history of events that have occurred since the Preliminary Results, see the Issues and Decision Memorandum.² The Issues and Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Issues and Decision Memorandum can be accessed directly on the internet at http://trade.gov/login.aspx. The signed Issues and Decision Memorandum and the electronic versions of the Issues and Decision Memorandum are identical in content.

¹ See Polyethylene Terephthalate Film, Sheet, and Strip from India: Preliminary Results and Partial Rescission of Antidumping Duty Administrative Review; 2015-2016, 82 FR 36735 (August 7, 2017) (Preliminary Results).

² See Department Memorandum, “Issues and Decision Memorandum for the Final Results of Antidumping Duty Administrative Review: Polyethylene Terephthalate Film from India; 2015-2016 Administrative Review” (Issues and Decision Memorandum), dated concurrently with, and hereby adopted by, this notice.

Commerce exercised its discretion to toll deadlines affected by the closure of the Federal Government from January 20 to January 22, 2018. If the new deadline falls on a non-business day, in accordance with Commerce's practice, the deadline will become the next business day. The deadline for the final results of this administrative review is now February 6, 2018.³

³ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

The products covered by the AD order are all gauges of raw, pretreated, or primed polyethylene terephthalate film, sheet, and strip (PET Film), whether extruded or coextruded. Excluded are metallized films and other finished films that have had at least one of their surfaces modified by the application of a performance-enhancing resinous or inorganic layer of more than 0.00001 inches thick. Imports of PET Film are currently classifiable in the Harmonized Tariff Schedule of the United States (HTSUS) under item number 3920.62.00.90. HTSUS subheadings are provided for convenience and customs purposes. The written description of the scope of the AD order is dispositive.

Analysis of Comments Received

All issues raised in the case brief and rebuttal briefs are addressed in the Issues and Decision Memorandum, which is attached to this notice as an Appendix.

Changes Since the Preliminary Results

Based on a review of the record and comments received from interested parties regarding our Preliminary Results, we made changes to SRF's and Jindal's calculations.⁴ SRF's margin is unchanged at zero percent, while the margin for Jindal is now 1.57 percent.

⁴ See Memoranda to Thomas Gilgunn, Program Manager “Analysis Memorandum for the Final Results of the Antidumping Duty Administrative Review of Polyethylene Terephthalate Film, Sheet, and Strip from India: Jindal Poly Films Limited, and “Analysis Memorandum for the Final Results of the Antidumping Duty Administrative Review of Polyethylene Terephthalate Film, Sheet, and Strip from India: SRF Limited,” both dated concurrently with these final results.

Final Results of Review

As a result of our review, we determine the following weighted-average dumping margins exist for the period July 1, 2015, through June 30, 2016.

⁵ The Initiation Notice also lists the company as Jindal Poly Films Ltd. (India). See Initiation of Antidumping and Countervailing Duty Administrative Reviews, 81 FR 62720 (September 12, 2016) (Initiation Notice). As noted in the Preliminary Decision Memoranda, dated concurrently with the Federal Register notice, the Department has determined that Jindal Poly Films Limited of India is the same company as Jindal Poly Films Ltd. (India). See Polyethylene Terephthalate Film, Sheet, and Strip from India: Preliminary Results and Partial Rescission of Antidumping Duty Administrative Review; 2015-2016 82 FR 36735 (August 7, 2017).

Producer or exporter | Weighted- average dumping margin (percent)
Jindal Poly Films Limited of India ⁵ | 1.57
SRF Limited | 0.00

Disclosure

We intend to disclose the calculations performed to parties in this proceeding within five days after the public announcement of the final results, in accordance with section 751(a) of the Act and 19 CFR 351.224(b).

Assessment Rates

Commerce will determine, and CBP shall assess, antidumping duties on all appropriate entries in this review, in accordance with section 751(a)(2)(C) of the Act and 19 CFR 351.212(b)(1). Commerce intends to issue assessment instructions directly to CBP 15 days after publication of these final results of review. For Jindal, we will base the assessment rate for the corresponding entries on the margin listed above.

For entries of subject merchandise produced by Jindal or SRF for which it did not know its merchandise was destined for the United States, we will instruct CBP to liquidate unreviewed entries at the all-others rate established in the less-than fair-value (LTFV) investigation, 5.71 percent,⁶ if there is no rate for the intermediate company(ies) involved in the transaction.⁷ Pursuant to 19 CFR 351.106(c)(2), we will instruct CBP to liquidate without regard to antidumping duties any entries produced and exported by SRF during the POR.

⁶ See Notice of Amended Final Antidumping Duty Determination of Sales at Less Than Fair Value and Antidumping Duty Order: Polyethylene Terephthalate Film, Sheet, and Strip from India, 67 FR 44175 (July 1, 2002) (Amended Final Determination).

⁷ See Antidumping Proceedings: Calculation of the Weighted-Average Dumping Margin and Assessment Proceedings; Final Modification, 77 FR 8101, 8102 (February 14, 2012) (Final Modification).

Cash Deposit Requirements

The following cash deposit requirements will be effective for all shipments of PET Film from India entered, or withdrawn from warehouse, for consumption on or after the date of publication of the final results of this administrative review, as provided for by section 751(a)(2)(C) of the Act: (1) The cash deposit rate for the companies under review will be as follows 1.57 percent for merchandise exported by Jindal and zero percent for merchandise exported by SRF; (2) for previously reviewed or investigated companies not listed above, the cash deposit rate will continue to be the company-specific rate published in the completed segment for the most recent period for that company; (3) if the exporter is not a firm covered in this review, a prior review, or the less-than-fair-value investigation, but the manufacturer is, the cash deposit rate will be the rate established in the completed segment for the most recent period for the manufacturer of the merchandise; and (4) if neither the exporter nor the manufacturer is a firm covered in this or any other completed segment of this proceeding, then the cash deposit rate will be the all others rate of 5.71 percent, which is the all others rate established by Commerce in the LTFV investigation adjusted for the export subsidy rate in the countervailing duty investigation.⁸ These cash deposit requirements, when imposed, shall remain in effect until further notice.

⁸ See Amended Final Determination.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Commerce is issuing and publishing these final results of administrative review in accordance with sections 751(a)(1) and 777(i)(1) of the Act, and 19 CFR 351.221.

Dated: February 6, 2018.
Gary Taverman,
Deputy Assistant Secretary for Antidumping and Countervailing Duty Operations, performing the non-exclusive functions and duties of the Assistant Secretary for Enforcement and Compliance.

Appendix

I. Summary

II. Background Scope of the Order

III. Discussion of the Issues

Comment 1: Whether To Grant Certain Post-Sale Price Adjustments to Jindal for the Final Results

Comment 2: Whether To Grant Certain Post-Sale Price Adjustments to SRF for the Final Results

Comment 3: Whether To Revise SRF's Program

[FR Doc. 2018-02830 Filed 2-12-18; 8:45 am]

BILLING CODE 3510-DS-P